DEPARTMENT OF TRANSPORTATION

Federal Highway Administration

America's Byways Public Awareness Initiative

AGENCY: Federal Highway Administration (FHWA), DOT.

ACTION: Notice; Request for Statement of Interest.

SUMMARY: The Federal Highway Administration (FHWA), cooperatively with the America's Byways Resource Center (ABRC) in Duluth, Minnesota, invites statements of interest about participating in a domestic, multi-year America's Byways® Partnership Marketing Campaign. As part of this marketing campaign, the ABRC would like to partner with interested parties to establish a national Public Awareness Initiative to elevate the awareness, understanding, and appreciation of the America's Byways collection. This initiative offers an ideal environment for national partners with brand profiles consistent with the National Scenic Byways Program to spotlight their products while raising the awareness of America's Byways. This notice seeks Statements of Interest from parties, such as corporations, associations, nonprofit organizations, and public authorities, who are interested in working with ABRC and FHWA in the Partnership Marketing Campaign.

DATES: Statements of interest should be received on or before September 22, 2008. However, statements received after this date may still be considered depending on available resources.

ADDRESSES: Mail or hand deliver statements of interest to the America's Byways Resource Center, 394 Lake Avenue South, Suite 600, Duluth, MN 55802, or submit via e-mail to partnerships@byways.org or fax to (218) 625-3333.

FOR FURTHER INFORMATION CONTACT: Henry Hanka, (218) 625-3306, Special Projects Manager, America's Byways Resource Center, 394 Lake Avenue South, Suite 600, Duluth, MN 55802, or Gary Jensen, (202) 366-2048, Office of Planning, Environment & Realty, HEP-2, Federal Highway Administration, Department of Transportation, 1200 New Jersey Avenue, SE., Washington, DC 20590, between 7:30 a.m. to 4:30 p.m., Monday through Friday, except Federal holidays.

SUPPLEMENTARY INFORMATION: Electronic Access: An electronic copy of this document may be downloaded by accessing the Office of the Federal Register's home page at http://www.archives.gov and from the Government Printing Office's Web page at http://www.gpoaccess.gov/nara.

Background: The National Scenic Byways Program was established under the Intermodal Surface Transportation Efficiency Act of 1991, and was reauthorized and amended most recently in 2005 under the Safe, Accountable, Flexible, Efficient Transportation Equity Act: A Legacy for Users (SAFETEA-LU). It is codified at Title 23, United States Code, section 162. Under the program, the Secretary of Transportation recognizes certain roads as National Scenic Byways or All-American Roads based on their intrinsic qualities—archaeological, cultural, historic, natural, recreational, and scenic qualities. There are 126 such designated byways in 44 States which the FHWA promotes collectively as America's Byways®. It is a program that recognizes and supports outstanding roads while providing resources to help manage the intrinsic qualities within the broader byway corridor. The vision of the FHWA's National Scenic Byways Program is to create a distinctive collection of American roads, their stories and treasured places. The program's mission is to provide resources to the byway community in creating a unique travel experience and enhanced local quality of life through efforts to preserve, protect, interpret, and promote the intrinsic qualities of designated byways.

Partnership Marketing Campaign: In 2005, Congress authorized ABRC to carry out public awareness activities for America's Byways. As a result, the ABRC developed a Partnership Marketing Campaign. Under this Campaign, the ABRC intends to partner with interested parties to establish the strategic and creative framework for a national communications effort. The core objectives of this campaign are as follows:

• Increase awareness for America's Byways at the community, regional and national level among the general public and special interest groups.

• Build a greater understanding and appreciation for the America's Byways experience.

• Increase visitation and usage across the America's Byways Collection.

• Generate economic impact for the individual byway communities.

The Campaign is designed to combine the shared commitment of the FHWA and ABRC with the expertise and resources of a broader range of public and private partners to integrate resources, execute a more extensive communications effort, and enter more markets with greater exposure. As part of this partnership, private and public sector partners may have opportunities to position their brands and products with the America's Byways® brand in a joint marketing and communication environment. Such partners could include, but are not limited to, entities in the following areas: Automotive; hospitality/hotels/rental cars; food service; retail; and outdoor recreation.

Partner benefits may also include exposure through strategic partnerships that may reach a broader audience, while promoting protection and sustainability of the environment; and being seen as a leader in a national domestic tourism campaign.

The FHWA and ABRC are considering various options for this initiative, but consistent with the direction from Longwoods Travel USA® research, would look to start with national partners whose businesses especially link with the tourism categories of Touring/Special Events and Outdoor Adventure. See: http://www.bywaysresourcecenter.org/resources/specialprojects/partnershipmarketing. Longwoods Travel USA® concludes that these segments represent over 51 percent of trips by car, RV or motorcycle overnight travelers. The research also showed that the potential for new byway customers is great, with the number one item of importance in attracting new visitors is that more information and publicity is needed.

Statements of Interest: This notice seeks interest from parties, such as corporations, associations, nonprofit organizations, and public authorities, who can, together with FHWA and ABRC, promote America's Byways. Statements of interest should include a basic business profile of the interested party, products offered, and a brief summary of current national communications and marketing scope. Based on responses to this notice and other information, the FHWA and the ABRC will work with selected interested parties to integrate their ideas into the national marketing strategy. The statements of interest will be used by FHWA and ABRC to evaluate which potential partners can assist us in attracting new visitors and gain more publicity consistent with our research. There is a level of uncertainty associated with planning against an unknown investment of funding and resources from potential partners. The FHWA and the ABRC are considering various options for this initiative, but would look to start with national partners whose businesses especially complement the America's Byways tourism categories of Touring/Special Events and Outdoor Adventure.

Upon receipt of a statement of interest, the ABRC, in cooperation with FHWA, will confirm receipt of the statements of interest. Those parties determined by the ABRC, in cooperation with FHWA, to have the greatest potential to assist us in attracting new visitors and gain more publicity for America's Byways will then be contacted to discuss further their level of interest, available resources, existing and future communications efforts, and to discuss next steps.

Issued on: July 15, 2008.
James D. Ray,
Acting Federal Highway Administrator.

[FR Doc. E8-16886 Filed 7-22-08; 8:45 am]

BILLING CODE 4910-22-P